DEPARTMENT OF TRANSPORTATION

Pipeline and Hazardous Materials Safety Administration

[Docket No. PHMSA-2013-0161]

Pipeline Safety: Public Workshop on Class Location Methodology

AGENCY: Pipeline and Hazardous Materials Safety Administration, DOT.

ACTION: Notice of public meeting.

SUMMARY: The Pipeline and Hazardous Materials Safety Administration (PHMSA) is holding a public workshop along with the National Association of Pipeline Safety Representatives to present perspectives and seek comment on whether applying the gas pipeline integrity management (IM) requirements beyond high consequence areas would mitigate the need for class location requirements. This event is just one action in support of addressing Section 5(a)(2) of the Pipeline Safety, Regulatory Certainty, and Job Creation Act of 2011 (Pub. L. 112-90).

DATES: The public workshop will be held on Wednesday, April 16, 2014, from 9:00 a.m. to 4:30 p.m. EST. Written comments must be received by May 27, 2014.

ADDRESSES: The workshop will be held at the Hilton Crystal City at the Washington Reagan National Airport, 2399 Jefferson Davis Highway, Arlington, Virginia. A small room block is available at the Federal government rate of $224/night for the nights of April 15 and 16 on a first come, first served basis. Hotel reservations can be made under the room block “United States Department of Transportation” at 703-418-6800 or at http://www3.hilton.com/en/hotels/virginia/hilton-crystal-city-at-washington-reagan-national-airport-DCANAHF/index.html.

Registration: Members of the public may attend this free workshop. To help assure that adequate space and accommodations are provided, all attendees are encouraged to register for the workshop in advance at http://primis.phmsa.dot.gov/meetings/MtgHome.mtg?mtg=95. A name tag will be provided from your registration.

Webcast: This public event will also be webcasted in order to facilitate wider reaching and remote attendance. Webcast information will be provided from the event meeting in the hour before the start time at http://primis.phmsa.dot.gov/meetings/MtgHome.mtg?mtg=95.

Comments: Members of the public may also submit written comments either before or after the workshop. Comments on this public event should reference Docket No. PHMSA-2013-0161. Comments may be submitted in the following ways:

• E-Gov Web site: http://www.regulations.gov. This site allows the public to enter comments on any Federal Register notice issued by any agency. Follow the instructions for submitting comments.

• Fax: 1-202-493-2251.

• Mail: Docket Management System, U.S. Department of Transportation (DOT), 1200 New Jersey Avenue SE., Room W12-140, Washington, DC 20590.

Hand Delivery: DOT Docket Management System, Room W12-140, on the ground floor of the West Building, 1200 New Jersey Avenue SE., Washington, DC between 9:00 a.m. and 5:00 p.m., Monday through Friday, except Federal holidays.

Instructions: Identify the docket number at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided. Please see the Privacy Act Statement heading below for additional information.

Privacy Act Statement

Anyone may search the electronic form of all comments received for any of our dockets. You may review DOT's complete Privacy Act Statement in the Federal Register published April 11, 2000, (65 FR 19476).

Information on Services for Individuals With Disabilities

For information on facilities or services for individuals with disabilities, or to request special assistance at the meeting, please contact the Hilton Chrystal City at the Washington Reagan National Airport at 703-418-6800 or Robert Smith, PHMSA, Office of Pipeline Safety, at 919-238-4759 or by email at robert.w.smith@dot.gov.

FOR FURTHER INFORMATION CONTACT: Robert Smith, PHMSA, Office of Pipeline Safety, at 919-238-4759 or by email at robert.w.smith@dot.gov, regarding the subject matter of this notice.

SUPPLEMENTARY INFORMATION: The Pipeline and Hazardous Materials Safety Administration (PHMSA) is holding a public workshop to present and seek comment on whether applying the gas pipeline integrity management (IM) requirements beyond high consequence area would mitigate the need for class location requirements. Locations along gas pipelines are divided into classes from 1 (rural) to 4 (densely populated) and are based upon the number of buildings or dwellings for human occupancy. Allowable pipe operating stresses, as a percentage of specified minimum yield strength, decrease as class location increases from Class 1 to Class 4 locations. Gas IM requirements use a different approach to identify areas of higher risk along pipelines. The workshop will have presentations from PHMSA, state regulatory representatives and other stakeholders on the review of both methodologies, discussion panels, and an overview of comments received from an August 1, 2013, Notice of Inquiry and from an August 25, 2011, Advance Notice of Proposed Rulemaking in Docket No. PHMSA-2011-0023 at www.regulations.gov.

The details on this meeting including the location, times and agenda will be available on the meeting page https://primis.phmsa.dot.gov/meetings/MtgHome.mtg?mtg=95 as they become available.

Presentations, transcripts and the webcast archive will be available online at the meeting page http://primis.phmsa.dot.gov/meetings/MtgHome.mtg?mtg=95 within 30 days following the meeting.

Authority: 49 CFR 1.97.

Issued in Washington, DC, on March 19, 2014.
Alan K. Mayberry,
Deputy Associate Administrator for Policy and Programs.

[FR Doc. 2014-06403 Filed 3-24-14; 8:45 am]

BILLING CODE 4910-60-P